DEPARTMENT OF EDUCATION

[Docket No.: ED-2012-ICCD-0040]

Agency Information Collection Activities; Submission to the Office of Management and Budget for Review and Approval; Comment Request; State of Preschool Survey 2013-2015

AGENCY: Institute of Education Sciences (IES), ED.

ACTION: Notice.

SUMMARY: In accordance with the Paperwork Reduction Act of 1995, the Department of Education (ED) is proposing a new information collection.

DATES: Interested persons are invited to submit comments on or before April 10, 2013.

ADDRESSES: Comments submitted in response to this notice should be submitted electronically through the Federal eRulemaking Portal at http://www.regulations.gov by selecting Docket ID number ED-2012-ICCD-0040 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: State of Preschool Survey 2013-2015.

OMB Control Number: 1850-NEW.

Type of Review: New information collection.

Respondents/Affected Public: State, Local or Tribal Governments.

Total Estimated Number of Annual Responses: 53.

Total Estimated Number of Annual Burden Hours: 636.

Abstract: The National Center for Education Statistics (NCES), within the Institute of Education Sciences (IES) of the U.S. Department of Education (ED), is seeking approval to conduct in 2013, 2014, and 2015 the annual, web-based State of Preschool survey, which centralizes data about publicly provided early childhood education opportunities. Data are collected from state agencies responsible for providing early childhood education and made available for secondary analyses. Data collected as part of the survey focus on enrollment counts in state-funded early childhood education programs, funding provided by the states for these programs, and program monitoring and licensing policies. The collected data are then reported, both separately and in combination with extant data available from federal agencies supporting early childhood education programs such as Head Start and the U.S. Census Bureau. Data from the U.S. Census Bureau form the basis for some of the rates developed for the State of Preschool reports. The data and annual report resulting from the State of Preschool data collection provide a key information resource for research and for federal and state policy on publicly funded early childhood education.

Dated: March 5, 2013.
Stephanie Valentine,
Acting Director, Information Collection Clearance Division, Privacy, Information and Records Management Services, Office of Management.

[FR Doc. 2013-05541 Filed 3-8-13; 8:45 am]

BILLING CODE 4000-01-P